OFFICE OF MANAGEMENT AND BUDGET

Executive Office of the President; Acquisition Advisory Panel; Cancellation of an Upcoming Meeting of the Acquisition Advisory Panel

AGENCY: Office of Management and Budget, Executive Office of the President.

ACTION: Cancellation of a Federal Advisory Committee Meeting.

SUMMARY: The Office of Management and Budget is issuing this notice to cancel the May 31, 2006 public meeting of the Acquisition Advisory Panel (AAP or “Panel”) established in accordance with the Services Acquisition Reform Act of 2003.

DATES: The only meeting being cancelled by this notice is the May 31, 2006 meeting.

ADDRESSES: The meeting was to have been held at the Small Business Administration, 409 Third Street, SW., 2nd Floor Eisenhower Conference Room, Washington, DC.

FOR FURTHER INFORMATION CONTACT: Members of the public wishing further information concerning this cancellation notice or any future meetings or the Acquisition Advisory Panel itself, should contact Ms. Laura Auletta, Designated Federal Officer (DFO), at: laura.auletta@gsa.gov, phone/voice mail (202) 208-7279, or mail at: General Services Administration, 1800 F. Street, NW., Room 4006, Washington, DC, 20405.

SUPPLEMENTARY INFORMATION: (a) Background: The cancelled meeting was originally announced in the Federal Register at 71 FR 25613 on May 1, 2006. Only the May 31, 2006 meeting is being cancelled.

Laura Auletta,
Designated Federal Officer (Executive Director), Acquisition Advisory Panel.

[FR Doc. 06-5022 Filed 5-26-06; 1:28 pm]

BILLING CODE 3110-01-P